DEPARTMENT OF AGRICULTURE

Forest Service

Eastern Arizona Counties Resource Advisory Committee

AGENCY: Forest Service, USDA.

ACTION: Notice of meeting.

SUMMARY: The Eastern Arizona Counties Resource Advisory Committee will meet in St. Johns, Arizona. The purpose of the meeting is to review possible projects for funding and approve evaluation criteria for the projects.

DATES: The meeting will be held February 7, 2003, at 1 pm.

ADDRESSES: The meeting will be held at the St. Johns Town Hall, 245 West 1st South, St. Johns, Arizona 85936. Send written comments to Robert Dyson, Eastern Arizona Counties Resource Advisory Committee, c/o Forest Service, USDA, P.O. Box 640, Springerville, Arizona 85938 or electronically to rdyson@fs.fed.us

FOR FURTHER INFORMATION CONTACT: Robert Dyson, Public Affairs Officer, Apache-Sitgreaves National Forests, (928) 333-4301.

SUPPLEMENTARY INFORMATION: The meeting is open to the public. Committee discussion is limited to Forest Service staff and Committee members. However, persons who wish to bring PL 106-393 related matters to the attention of the Committee may file written statements with the Committee staff before or after the meeting. Opportunity for public input will be provided.

Dated: January 14, 2003.
John C. Bedell,
Forest Supervisor, Apache-Sitgreaves National Forests.

[FR Doc. 03-3322 Filed 2-10-03; 8:45 am]

BILLING CODE 3410-11-M